DEPARTMENT OF HEALTH AND HUMAN SERVICES

Agency for Toxic Substances and Disease Registry

Statement of Organization, Functions, and Delegations of Authority

Part T (Agency for Toxic Substances and Disease Registry) of the Statement of Organization, Functions, and Delegations of Authority of the Department of Health and Human Services (50 FR 25129-25130, dated June 17, 1985, as amended most recently at 69 FR 60629, dated October 12, 2004) is amended to reflect the reorganization of the Agency for Toxic Substances and Disease Registry (ATSDR).

Section T-B, Organization and Functions, is hereby amended as follows:

Delete in its entirety the functional statements for the Division of Health Studies (TB8), and insert the following:

Division of Health Studies (TB8). (1) Coordinates all activities associated with human health studies, surveillance activities, and registries; (2) provides medical epidemiologic, and biostatistical assistance and consultation; (3) implements extramural research programs that involve human health investigations.

Office of the Director (TB81). (1) Plans, directs, coordinates, and manages the operations of the Division of Health Studies; (2) develops goals and objectives and provides leadership, policy formulation, and guidance in program planning and development; (3) facilitates the science, including analytic support of the division and undertakes special scientific activities; (4) coordinates division activities with other components of ATSDR and other federal agencies.

Surveillance and Registries Branch (TB82). (1) Designs and conducts surveillance and registry programs to evaluate the adverse health effects on persons exposed to hazardous substances; (2) conducts health follow-up activities resulting from surveillance and registries; (3) implements extramural research programs that involve surveillance and registries.

Health Investigations Branch (TB84). (1) Designs and conducts human health, including epidemiologic, studies to evaluate the association between exposure to hazardous substances and adverse health effects; (2) provides expert medical and environmental epidemiologic consultation; (3) implements extramural research programs that involve human health investigations.

Dated: June 3, 2005.
William H. Gimson,
Chief Operating Officer, Centers for Disease Control and Prevention (CDC).

[FR Doc. 05-20369 Filed 10-11-05; 8:45 am]

BILLING CODE 4160-70-M